DEPARTMENT OF HOMELAND SECURITY

Federal Emergency Management Agency

[Docket ID: FEMA-2022-0033; OMB No. 1660-NW160]

Agency Information Collection Activities: Submission to the Office of Management and Budget for Review and Approval; Floodplain Administrator (FPA) National Training Assessment

AGENCY: Federal Emergency Management Agency, Department of Homeland Security.

ACTION: 30-Day notice of new collection and request for comments.

SUMMARY: The Federal Emergency Management Agency (FEMA), as part of its continuing effort to reduce paperwork and respondent burden, invites the general public to take this opportunity to comment on a new information collection. In accordance with the Paperwork Reduction Act of 1995, this notice seeks comments concerning the training needs of National Flood Insurance Program (NFIP) Floodplain Administrators (FPAs) throughout the United States.

DATES: Comments must be submitted on or before October 2, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C St. SW, Washington, DC 20472, email address: FEMA-Information-Collections-Management@fema.dhs.gov or Michael Gumpert, National Floodplain Management Training Coordinator, FIMA, Floodplain Management Division, Michael.Gumpert@fema.dhs.gov, 702-415-6499.

SUPPLEMENTARY INFORMATION: The National Flood Insurance Program (NFIP) is authorized by the National Flood Insurance Act of 1968 (title XIII of Pub. L. 90-448, as amended, 42 U.S.C. 4001, et seq.). The general purpose of the NFIP is both to offer primary flood insurance to properties with significant flood risk, and to reduce flood risk through the adoption of floodplain management standards. Communities volunteer to participate in the NFIP to have access to federal flood insurance, and in return are required to adopt minimum standards. Nationally, as of December 2021, over 22,000 communities in 56 states and jurisdictions participate in the NFIP. Each “Participating Community” (FEMA's term for participating units of local government) is obligated to appoint a Floodplain Administrator who is directly responsible for managing the NFIP in their community. It is common for Participating Communities to assign the FPA role to employees who are also simultaneously responsible for other roles such as Police Chief, Town Clerk, Grants Manager, Finance Manager. FPAs are a diverse group with varied abilities, schedules, learning styles, geographies, and resources. A Training Strategy is needed to direct FEMA's limited FPA Training budget into training solutions that address the unique needs of FPA's as well as their varied abilities, schedules, learning styles, geographies, and resources. To be effective, the aforementioned FPA Training Strategy must be grounded in an accurate understanding FPAs' varied needs, abilities, schedules, learning styles, geographies, and resources. To achieve this understanding, a Training Assessment must be performed.

FEMA is requesting a three-year clearance to collect information from Floodplain Administrators (FPA) regarding their training needs, floodplain management experiences, and demographics to produce improved outcomes for the National Flood Insurance Program (NFIP). The data will be used to help FEMA, State, Tribal, and Territorial NFIP Offices, and Floodplain Associations to develop training strategies and solutions that effectively and efficiently address the diverse abilities, schedules, learning styles, geographies and resources of Floodplain Administrators who implement this Federal Government program on behalf of their local communities. The information collection, to be administered by an independent, third-party research organization, will allow for a data-informed approach to understanding the needs and expectations of an important and specific group of FEMA partners and customers for their development and program administration. By using this approach, FEMA will be able to gain important insights about Floodplain Administrators and how to improve its offerings and support as well as to allocate resources more effectively. The ultimate objective is to reduce the socio-economic impact of floods through better preparation of Floodplain Administrators to assist communities adopt and enforce floodplain management regulations that help mitigate flooding effects and thus support property owners, renters, and businesses to recover faster after a flooding event.

The primary law that supports the information collection efforts is the Government Performance and Results Act of 1993, 31 U.S.C. 1116, which has as one of its purposes “improve Federal programs effectiveness and public accountability by promoting a new focus on results, service quality, and customer satisfaction.”

This proposed information collection previously published in the Federal Register on January 3, 2023, at 88 FR 86 with a 60-day public comment period. No comments were received. The purpose of this notice is to notify the public that FEMA will submit the information collection abstracted below to the Office of Management and Budget for review and clearance. Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Collection of Information

Title: Floodplain Administrator (FPA) National Training Needs Assessment.

Type of Information Collection: New information collection.

OMB Number: 1660-NW160.

FEMA Forms: FEMA Form FF-206-FY-22-159, Floodplain Administrator Training Needs Assessment.

Abstract: The online survey will collect information from Floodplain Administrators regarding their training needs, floodplain management experiences, and demographics. The data will be used to help FEMA, State, Tribal, and Territorial NFIP Offices, and Floodplain Associations to develop training strategies and solutions that effectively and efficiently address those needs to produce improved outcomes for the National Flood Insurance Program.

Affected Public: State, Local, or Tribal Government.

Estimated Number of Respondents: 6,323.

Estimated Number of Responses: 6,323.

Estimated Total Annual Burden Hours: 3,162.

Estimated Total Annual Respondent Cost: $137,895.

Estimated Respondents' Operation and Maintenance Costs: $0.

Estimated Respondents' Capital and Start-Up Costs: $0.

Estimated Total Annual Cost to the Federal Government: $421,298.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-18889 Filed 8-31-23; 8:45 am]

BILLING CODE 9111-47-P